NUCLEAR REGULATORY COMMISSION

[Docket Nos. 50-335 AND 50-389]

Florida Power and Light Company, et al.; Notice of Withdrawal of Application for Amendment to Facility Operating License

The U.S. Nuclear Regulatory Commission (the Commission) has granted the request of Florida Power and Light Company, et al. (the licensee) to withdraw its October 18, 2001, application for proposed amendment to Facility Operating License Nos. DPR-67 and NPF-16 for the St. Lucie Plant, Unit Nos. 1 and 2, respectively, located in St. Lucie County, Florida.

The proposed amendment would have revised the Technical Specifications regarding Engineered Safety Feature Actuation System instrumentation to limit the period of time that inoperable recirculation actuation signal, containment spray actuation signal, and auxiliary feedwater actuation signal input channels could be in the bypassed and/or tripped condition.

The Commission had previously issued a Notice of Consideration of Issuance of Amendment published in the Federal Register on November 28, 2001 (66 FR 59507). However, by letter dated June 6, 2002, the licensee withdrew the proposed change.

For further details with respect to this action, see the application for amendment dated October 18, 2001, and the licensee's letter dated June 6, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 17th day of June 2002.
For the Nuclear Regulatory Commission.
Brendan T. Moroney,
Project Manager, Section 2, Project Directorate II, Division of Licensing Project Management, Office of Nuclear Reactor Regulation.

[FR Doc. 02-15681 Filed 6-20-02; 8:45 am]

BILLING CODE 7590-01-P